DEPARTMENT OF JUSTICE

Antitrust Division

Notice Pursuant to the National Cooperative Research and Production Act of 1993—Canadian Standards Association and CSA America, Inc.

Notice is hereby given that, on August 31, 2004, pursuant to Section 6(a) of the National Cooperative Research and Production Act of 1993, 15 U.S.C. 4301 et seq. (“the Act”), the Canadian Standards Association and CSA America, Inc. (“CSA”) have filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the names and principal places of business of the standards development organizations are: Canadian Standards Organization, Toronto, Ontario, CANADA and CSA America, Inc., Cleveland, OH. The nature and scope of CSA's standards development activities are: The development of voluntary consensus standards using procedures that incorporate the attributes of openness, balance of interests, due process, an appeals process, and consensus. The scope of standards developed by CSA include standards in the following subject areas: Basic Engineering, Building Products, Building Systems, Concrete, Factory Built Buildings and Mobile Homes, Masonry, Plumbing Products and Materials, Structures, Welding and Structural Metals, Wood, Electrical Installations, Electrical Consumer and Commercial Products, Electrical Industrial Products, Electrical Wiring Products, Electricity Distribution and Transmission Systems, Electrical Engineering, Electromagnetic Compatibility, Telecommunications, Information Technology, Energy Efficiency, Fuel Burning Equipment, Gas Equipment, Nuclear Power Plants, Oil and Gas Systems and Materials, Offshore Structures, Renewable Energy, Distributed Generation Technology, Environmental Management, Environmental Technology, Sustainable Forest Management, Community Safety and Well-being, Health Care, Occupational Health and Safety, Elevating Devices, Pressure Vessels, Transportation, Business Management and Quality Management.

Additional information concerning CSA's standards development activities may be obtained by contacting Mr. RJ Falconi, Vice President, General Counsel and Corporate Secretary, CSA Group, 178 Rexdale Blvd., Toronto, ON M9W 1R3 Canada, Telephone (416) 747-2722.

Dorothy B. Fountain,
Deputy Director of Operations, Antitrust Division.

[FR Doc. 04-22887 Filed 10-12-04; 8:45 am]

BILLING CODE 4410-11-M